DEPARTMENT OF THE INTERIOR

Bureau of Land Management

[AK-990-AK-990-5101-NH-FL07]

Notice of Right-of-Way Renewal Application, Alaska

AGENCY: Bureau of Land Management, Interior.

ACTION: Notice.

SUMMARY: Notice is hereby given that, pursuant to Section 28 of the Mineral Leasing Act of 1920 (30 U.S.C. 185), as amended, and the Trans-Alaska Pipeline Authorization Act (43 U.S.C. 1651 et. seq.) an application has been filed to renew the Federal Agreement and Grant of Right-of-Way for the Trans-Alaska Pipeline System (TAPS), which includes pipeline right-of-way, related facilities, and access roads across land between Prudhoe Bay and the Port of Valdez, Alaska. The existing Federal Agreement and Grant of Right-of-Way expires January 22, 2004. The application seeks to renew the Federal Agreement and Grant of Right-of-Way for a 30-year term. The applicants are: (1) Amerada Hess Pipeline Corporation, (2) BP Pipelines (Alaska) Inc., (3) ExxonMobil Pipeline Company, (4) Phillips Transportation Alaska, Inc., (5) Unocal Pipeline Company, and (6) Williams Alaska Pipeline Company, L.L.C. The Trans-Alaska Pipeline System carries crude oil through a 48-inch diameter pipeline from production sites in Prudhoe Bay, Alaska, 800 miles south through Alaska's interior to the Port of Valdez. The purpose of this notice is to inform the public that the Bureau will be deciding whether a renewal of the Federal Agreement and Grant of Right-of-Way should be approved, and if so, under what terms and conditions. The application proposes to renew the Federal Agreement and Grant of Right-of-Way for the following:

Federal Grant of Right-of-Way, BLM Serial Numbers F-12505 and AA-5847

Umiat Meridian, Alaska

T. 1 N., R. 14 E., Sec. 34.

T. 1 S., R. 14 E., Secs. 2, 10, 11, 15.

T. 9 S., R. 13 E., Secs. 4, 5, 7, 8.

T. 9 S., R. 12 E., Secs. 11, 12, 14, 15, 16, 17, 19, 20, 30.

T. 9 S, R. 11 E., Secs. 25, 35, 36.

T. 10 S., R. 11 E., Secs. 2, 3, 10, 11, 14, 23, 26, 35.

T. 11 S., R. 11 E., Secs. 1, 2, 12, 13, 24.

T. 11 S., R. 12 E., Secs. 19, 29, 30, 32.

T. 12 S., R. 12 E., Secs. 5, 8, 9, 16, 21, 28, 33.

T. 13 S., R. 12 E., Secs. 3, 9, 10, 15, 16, 21, 28, 32, 33.

T. 14 S., R. 12 E., Secs. 5, 7, 8, 17, 20, 29, 32.

T. 15 S., R. 12 E, Secs. 5, 6, 7, 17, 18, 19.

T. 15 S., R. 11 E., Secs. 23, 24, 26, 34, 35.

T. 16 S., R. 11 E., Secs. 2, 3, 9, 10, 16, 19, 20, 21, 29, 30.

T. 16 S., R. 10 E., Secs. 25, 33, 34, 35, 36.

T. 17 S., R. 10 E., Sec. 2.

Fairbanks Meridian, Alaska

T. 2 N., R. 1 W., Secs. 3, 10.

T. 5 N., R. 3 W., Secs. 27, 34, 36.

T. 12 N., R. 10 W., Secs. 6, 7, 18.

T. 12 N., R. 11 W., Sec. 1.

T. 13 N. R. 11 W., Secs. 7, 17, 18, 20, 21, 22, 26, 27, 35, 36.

T. 13 N., R. 12 W., Secs. 1, 2, 12.

T. 14 N. R. 12 W., Secs. 6, 7, 8, 17, 20, 21, 27, 28, 34, 35.

T. 14., R. 11 W., Sec. 26.

T. 15 N., R. 12 W., Secs. 6, 7, 17, 18, 20, 29, 30, 31.

T. 16 N., R. 12 W., Sec. 31.

T. 16 N., R. 13 W., Secs. 3, 4, 10, 14, 15, 23, 24, 25, 36.

T. 17 N., R. 13 W., Secs. 6, 7, 8, 17, 20, 21, 28, 33, 34.

T. 17 N., R. 14 W., Sec. 1.

T. 18 N., R. 14 W., Secs. 4, 5, 9, 10, 14, 15, 23, 25, 26, 36.

T. 19 N., R. 14 W., Secs. 19, 30, 31, 32.

T. 19 N., R. 15 W., Secs. 2, 11, 12, 13, 24.

T. 20 N., R. 15 W., Secs. 2, 10, 11, 15, 22, 26, 27, 35.

T. 20 N., R. 13 W., Sec 30.

T. 21 N., R. 14 W., Secs. 5, 6, 7, 18, 19, 30, 31.

T. 22 N., R. 14 W., Secs. 6, 7, 18, 19, 20, 29, 32.

T. 23 N., R. 14 W., Secs. 3, 4, 8, 9, 17, 18, 19, 30, 31.

T. 24 N., R. 14 W., Secs. 13, 23, 24, 26, 27, 34.

T. 24 N., R. 13 W., Secs. 5, 7, 8, 18.

T. 25 N., R. 13 W., Secs. 12, 13, 23, 24, 26, 27, 33, 34.

T. 25 N., R. 12 W., Secs. 6, 7.

T. 25 N., R. 13 W., Sec. 1.

T. 25 N., R. 14 W., Sec. 35.

T. 26 N., R. 13 W., Secs 2, 11, 14, 23, 25, 26, 36.

T. 27 N., R. 13 W., Secs. 1, 11, 12, 14, 23, 26, 35.

T. 27 N., R. 12 W., Sec. 6.

T. 28 N., R. 12 W., Secs. 6, 15, 16, 29, 30, 31.

T. 29 N., R. 12 W., Secs. 1, 11, 12, 13, 14.

T. 30 N., R. 12 W., Secs. 25, 36.

T. 30 N., R. 11 W., Secs. 5, 6, 7, 18, 19, 30.

T. 31 N., R. 11 W., Secs. 25, 26, 32, 33, 34, 35.

T. 31 N., R. 10 W., Secs. 6, 7, 8, 18, 19.

T. 32 N., R. 10 W., Secs. 4, 9, 16, 20, 21, 29, 31, 32.

T. 33 N., R. 10 W., Secs. 2, 11, 13, 14, 21, 24, 25, 26, 34, 35.

T. 34 N., R. 10 W., Secs. 4, 9 10, 15, 22, 26, 27, 35.

T. 35 N., R. 10 W., Secs. 4, 9, 16, 21, 28, 33.

T. 36 N., R. 10 W., Secs. 2, 3, 10, 15, 16, 21, 28, 33.

T. 37 N., R. 10 W., Secs. 25, 26, 35.

T. 1 S., R. 2 E., Secs. 22, 26, 27.

T. 2 S., R. 2 E., Secs. 13, 24.

T. 2 S., R. 3 E., Secs. 19, 20, 21, 26, 27, 28, 35, 36.

T. 3 S., R. 3 E., Secs. 1, 12.

T. 3 S., R. 4 E., Secs. 7, 17, 18, 20, 21, 28, 33, 34.

T. 4 S., R. 4 E., Secs. 2, 3.

T. 10 S., R. 10 E., Secs. 2, 11, 24, 25, 26, 35.

T. 11 S., R. 10 E., Secs. 2, 11, 10, 15, 22, 27, 34.

T. 12 S., R. 10 E., Secs. 3, 10, 15, 16, 21, 28, 32, 33.

T. 13 S., R. 10 E., Secs. 4, 9, 16, 20, 21, 28, 29.

T. 14 S., R. 10 E., Secs. 5, 8, 17, 20, 29, 32.

T. 15 S., R. 9 E., Sec. 27.

T. 15 S., R. 10 E., Secs. 6, 7, 18, 19, 29, 30, 32.

T. 16 S., R. 10 E., Secs. 5, 8, 17, 20, 29, 32.

T. 17 S., R. 10 E., Secs. 4, 9, 10, 14, 15, 23, 24, 25, 36.

T. 18 S., R. 10 E., Secs. 1, 12, 13, 24, 25, 36.

T. 19 S., R. 10 E., Secs. 1, 12, 13.

T. 19 S., R. 11 E., Secs. 18, 19, 20, 21, 29, 32.

T. 22 S., R. 12 E., Secs. 4, 9, 16, 21, 28, 29, 32.

Copper River Meridian, Alaska

T. 1 N., R. 1 E., Sec. 6.

T. 2 N., R. 1 E., Secs. 30, 31.

T. 2 N., R. 1 W., Secs. 3, 10, 11, 24, 25.

T. 4 N., R. 1 W., Secs. 30, 31.

T. 4 N., R. 2 W., Secs. 1, 12, 13, 24, 25.

T. 5 N., R. 2 W., Secs. 1, 12, 13, 24, 25, 36.

T. 6 N., R. 2 W., Secs. 1, 12, 13, 24, 25, 36.

T. 7 N., R. 2 W., Secs. 12, 13, 24, 25, 36.

T. 7 N., R. 1 W., Secs. 6, 35.

T. 7 N., R. 2 W., Sec. 1.

T. 8 N., R. 2 W., Secs. 2, 11, 14, 23, 24, 25, 36.

T. 9 N., R. 2 W., Secs. 12, 13, 23, 24, 25, 26, 35.

T. 9 N., R. 1 W., Secs. 6, 7.

T. 10 N., R. 1 W., Secs. 5, 7, 8, 17, 18, 20, 29, 31, 32.

T. 11 N., R. 1 W., Secs. 4, 9, 16, 21, 28, 32, 33.

T. 12 N., R. 1 W., Secs. 5, 8, 17, 20, 29, 32, 33.

T. 13 N., R. 1 W., Secs. 5, 6, 8, 17, 18, 20, 29, 32.

T. 14 N., R. 1 W., Sec. 31.

T. 1 S., R. 1 E., Secs. 3, 4, 8, 10, 14, 15, 23, 25, 26, 35.

T. 2 S., R. 1 E., Secs. 2, 11, 14, 15, 22, 27, 34.

T. 3 S., R. 1 E., Secs. 3, 4, 9, 16, 21, 28, 29, 32, 33.

T. 4 S., R. 1 E., Secs. 5, 8, 16, 17, 21, 22, 25, 26, 27, 36.

T. 5 S., R. 1 E., Sec. 1.

T. 5 S., R. 2 E., Secs. 6, 7.

T. 5 S., R. 1 E., Secs. 12, 13, 23, 24, 26, 27, 32, 33, 34.

T. 6 S., R. 1 E., Secs. 5, 7, 8, 17, 18, 29, 30, 32.

T. 6 S., R. 1 W., Secs. 13, 24, 25.

T. 7 S., R. 1 E., Secs. 5, 8, 17, 18.

T. 7 S., R. 1 W., Secs. 13, 23, 24, 26, 27, 34, 35.

T. 8 S., R. 1 W., Secs. 3, 4, 5, 6.

T. 8 S., R. 2 W., Secs. 1, 2, 3, 4, 7, 8, 9.

T. 8 S., R. 3 W., Secs. 12, 13, 14, 22, 23, 27, 34.

Prospect Power & Communication Line, BLM Serial No. F-84966

Fairbanks Meridian, Alaska

T. 23 N., R. 14 W., Sec. 17, SW¼.

Gulkana Communication Site & Access Road, BLM Serial No. AA-31239

Copper River Meridian, Alaska

T. 9 N., R. 2 W., Sec. 26, SW¼SE1/4; Sec. 35 NW¼ NE¼.

Fuel Gas Pipeline, BLM Serial No. F-21770

Umiat Meridian, Alaska

T. 1 N., R. 15 E., Sec 7.

T. 1 S., R. 14 E., Sec 3.

T. 9 S., R.11 E., Secs. 22, 23, 24, 27, 28, 33.

T. 9 S., R.12 E., Secs. 12, 13, 14, 15, 19, 20, 21, 22.

T. 9 S., R.13 E., Secs. 3, 4, 5, 7, 8.

T. 10 S., R. 11 E., Secs. 3, 4, 10, 14, 15, 23, 26, 35.

T. 11 S., R. 11 E., Secs. 2, 11, 12, 13, 24.

Rights-of-Way for Access Roads

Umiat Meridian, Alaska

| BLM Serial No.
T. 9 S., R. 12 E., Sec. 19 | F-22386
T. 9 S., R. 13 E., Sec. 7 | F-20780
T. 10 S., R. 11 E., Sec. 3 | F-21586
T. 10 S., R. 11 E., Sec. 23 | F-21585
T. 11 S., R. 11 E., Secs. 1, 2 | F-20776
T. 11 S., R. 11 E., Sec. 13 | F-21467
T. 11 S., R. 12 E., Sec. 29 | F-21465
T. 11 S., R. 12 E., Sec. 32 | F-21656, FF-088221
T. 12 S., R. 12 E., Sec. 16 | F-20719
T. 12 S., R. 12 E., Sec. 28 | FF-088197
T. 13 S., R. 12 E., Secs. 3, 4 | F-20717
T. 13 S., R. 12 E., Sec. 21 | F-21727
T. 13 S., R. 12 E., Sec. 28 | FF-088195
T. 13 S., R. 12 E., Sec. 32 | F-20715
T. 13 S., R. 12 E., Sec. 9 | FF-088193
T. 14 S., R. 12 E., Sec. 7, 8 | F-20714
T. 15 S., R. 11 E., Sec. 24 | F-21617
T. 15 S., R. 11 E., Sec. 26 | F-21583
T. 15 S., R. 12 E., Sec. 6 | F-20713
T. 16 S., R. 10 E., Sec. 25 | F-64648
T. 16 S., R. 10 E., Sec. 36 | FF-088485, F-21640
T. 16 S., R. 11 E., Secs. 3, 10 | F-21535
T. 16 S., R. 11 E., Secs. 16, 21 | F-21653
T. 16 S., R. 11 E., Sec. 30 | F-20707

Fairbanks Meridian, Alaska

| BLM serial No.
T. 2 N., R. 1 W., Secs. 1, 2, 3 | F-20564
T. 12 N., R. 11 W., Sec. 1 | F-20594
T. 12 N., R. 10 W., Sec. 7 | F-64643
T. 13 N., R. 12 W., Sec. 12 | F-20598
T. 13 N., R. 11 W., Secs. 17, 18 | F-20597
T. 13 N., R. 11 W., Sec. 22 | F-20596
T. 13 N., R. 11 W., Sec. 36 | F-20595
T. 14 N., R. 12 W., Sec. 7 | F-21565
T. 14 N., R. 12 W., Secs. 20, 21 | F-21546
T. 14 N., R. 12 W., Secs. 27, 28 | F-21581
T. 14 N., R. 12 W., Sec. 34 | F-20600
T. 15 N., R. 12 W., Sec. 7 | F-20606
T. 15 N., R. 12 W., Sec. 29 | F-20605
T. 15 N., R. 12 W., Sec. 31 | F-20604
T. 16 N., R. 13 W., Sec. 4 | F-20609
T. 16 N., R. 13 W., Sec. 14 | F-20608
T. 17 N., R. 13 W., Sec. 28 | F-20610, F-20611
T. 18 N., R. 14 W., Sec. 4 | F-20616
T. 18 N., R. 14 W., Sec. 9 | F-20615
T. 18 N., R. 14 W., Sec. 23 | F-64644
T. 18 N., R. 14 W., Sec. 36 | F-20613
T. 19 N., R. 14 W., Sec. 19 | F-20621
T. 19 N., R. 14 W., Sec. 30 | FF-088184, FF-088185, FF-088219
T. 19 N., R. 14 W., Sec. 31 | F-20618
T. 19 N., R. 15 W., Sec. 11 | F-20622
T. 19 N., R. 15 W., Sec. 24 | F-20621
T. 20 N., R. 15 W., Secs. 3, 4, 10 | F-21567
T. 20 N., R. 15 W., Secs. 15, 16, 17 | F-20623
T. 20 N., R. 15 W., Secs. 27, 28 | F-21549
T. 20 N., R. 15 W., Secs. 34, 35 | F-21582
T. 21 N., R. 14 W., Sec. 7 | F-20627, F-20628
T. 21 N., R. 14 W., Sec. 19 | F-20625
T. 22 N., R. 14 W., Sec. 7 | F-21568
T. 22 N., R. 14 W., Sec. 19 | FF-81337
T. 22 N., R. 14 W., Secs. 29, 31, 32 | FF-088186
T. 22 N., R. 14 W., Secs. 31, 32 | F-20773
T. 23 N., R. 14 W., Sec. 3 | F-20637
T. 23 N., R. 14 W., Sec. 8 | F-21693
T. 23 N., R. 14 W., Secs. 4, 9 | F-21552
T. 23 N., R. 14 W., Secs. 19, 30 | F-22365
T. 23 N., R. 14 W., Sec. 31 | F-20633
T. 24 N., R. 13 W., Sec. 5 | F-20645
T. 24 N., R. 13 W., Sec. 8 | F-21570
T. 24 N., R. 14 W., Sec. 23 | F-20642
T. 24 N., R. 14 W., Sec. 26 | F-20640
T. 24 N., R. 14 W., Sec. 34 | F-20638
T. 25 N., R. 13 W., Sec. 13 | F-21553
T. 25 N., R. 13 W., Secs. 23, 26 | F-21551
T. 26 N., R. 13 W., Sec. 2 | F-20654
T. 26 N., R. 13 W., Sec. 14 | F-20653
T. 26 N., R. 13 W., Sec. 23 | F-20652
T. 26 N., R. 13 W., Sec. 26 | F-22978
T. 27 N., R. 12 W., Sec. 6 | F-20657
T. 27 N., R. 13 W., Sec. 14 | F-20656
T. 27 N., R. 13 W., Sec. 26 | F-64645
T. 28 N., R. 12 W., Sec. 31 | F-21763
T. 29 N., R. 12 W., Sec. 1 | F-20666
T. 29 N., R. 12 W., Secs. 13, 14 | F-20665
T. 30 N., R. 11 W., Sec. 5 | F-20671
T. 30 N., R. 11 W., Sec. 18 | F-20669
T. 30 N., R. 11 W., Sec. 19 | F-20668
T. 31 N., R. 10 W., Sec. 6 | F-20679
T. 31 N., R. 10 W., Secs. 7, 8 | F-20678
T. 31 N., R. 10 W., Secs. 17, 18 | F-20677
T. 31 N., R. 10 W., Sec. 18 | F-20676, FF-088222, FF-088190
T. 31 N., R. 10 W., Sec. 19 | F-20675
T. 31 N., R. 11 W., Sec. 25 | FF-87266
T. 31 N., R. 11 W., Sec. 32 | FF-088187
T. 31 N., R. 11 W., Sec. 33 | FF-088188, FF-088189
T. 31 N., R. 11 W., Sec. 35 | F-20673
T. 32 N., R. 10 W., Sec. 4 | F-20683
T. 32 N., R. 10 W., Sec. 9 | FF-84277, FF-088191
T. 32 N., R. 10 W., Secs. 20, 21 | F-21638
T. 32 N., R. 10 W., Sec. 31 | F-20679
T. 33 N., R. 10 W., Sec. 24 | F-20688
T. 33 N., R. 10 W., Sec. 35 | F-21429, FF-088218, FF-088220
T. 34 N., R. 10 W., Sec. 4 | F-20694
T. 34 N., R. 10 W., Sec. 15 | F-20693
T. 34 N., R. 10 W., Secs. 22, 23 | F-20692
T. 34 N., R. 10 W., Sec. 26 | F-21652
T. 35 N., R. 10 W., Sec. 4 | F-21623
T. 35 N., R. 10 W., Sec. 16 | F-64646
T. 35 N., R. 10 W., Sec. 28 | F-21618
T. 36 N., R. 10 W., Sec. 3 | FF-088194
T. 36 N., R. 10 W., Sec. 21 | FF-088192
T. 36 N., R. 10 W., Sec. 28 | F-20699
T. 36 N., R. 10 W., Sec. 33 | F-64647
T. 37 N., R. 10 W., Sec. 25 | FF-088223
T. 2 S., R. 3 E., Sec. 19 | F-21650
T. 2 S., R. 3 E., Secs. 34, 35 | F-21740
T. 3 S., R. 3 E., Secs. 2, 11, 12, 13 | F-21740
T. 3 S., R. 4 E., Secs. 17, 18 | F-21740
T. 10 S., R. 10 E., Sec. 26 | F-20557, F-21591
T. 11 S., R. 10 E., Sec. 22 | F-20554
T. 11 S., R. 10 E., Secs. 33, 34 | F-20553
T. 15 S., R. 10 E., Sec. 19 | F-20545
T. 16 S., R. 10 E., Sec. 5 | F-20542
T. 16 S., R. 10 E., Sec. 8 | F-20541
T. 16 S., R. 10 E., Sec. 32 | F-20536, F-21759
T. 17 S., R. 10 E., Sec. 4 | F-20534, F-20535
T. 17 S., R. 10 E., Sec. 14 | F-20530
T. 17 S., R. 10 E., Sec. 15 | F-20532
T. 17 S., R. 10 E., Sec. 25 | F-21756
T. 17 S., R. 10 E., Sec. 36 | F-20526
T. 18 S., R. 10 E., Sec. 1 | AA-37894
T. 18 S., R. 10 E., Sec. 12 | AA-8857
T. 18 S., R. 10 E., Sec. 24 | AA-8855
T. 18 S., R. 10 E., Sec. 25 | AA-8854
T. 19 S., R. 11 E., Secs. 19, 20 | AA-8853
T. 19 S., R. 11 E., Secs. 28, 29 | AA-9213

Copper River Meridian, Alaska

| BML Serial No.
T. 2 N., R. 1 W., Sec. 12 | AA-9166
T. 2 N., R. 1 W., Sec. 25 | AA-8845
T. 2 N., R. 1 E., Sec. 30 | AA-8845
T. 3 N., R. 1 W., Sec. 17 | AA-8862
T. 5 N., R. 2 W., Sec. 36 | AA-8863
T. 6 N., R. 2 W., Sec. 25 | AA-9189
T. 6 N., R. 1 W., Secs. 27, 28, 29, 30 | AA-9189
T. 9 N., R. 2 W., Secs. 23, 24, 25 | AA-8867
T. 9 N., R. 2 W., Secs. 26, 35 | AA-8866
T. 10 N., R. 1 W., Sec. 20 | AA-11185
T. 11 N., R. 1 W., Secs. 16, 21 | AA-9198
T. 11 N., R. 1 W., Sec. 32 | AA-8849
T. 11 N., R. 1 W., Sec. 33 | AA-8848
T. 12 N., R. 1 W., Secs. 7, 8 | AA-8870
T. 13 N., R. 2 W., Sec. 1 | AA-8871
T. 13 N., R. 1 W., Sec. 6 | AA-8871
T. 13 N., R. 1 W., Secs. 19, 20 | AA-8851
T. 14 N., R. 1 W., Sec. 31 | AA-8871
T. 1 S., R. 1 E., Sec. 3 | AA-8843
T. 1 S., R. 1 E., Sec. 10 | AA-8842
T. 1 S., R. 1 E., Sec. 25 | AA-8840
T. 2 S., R. 1 E., Sec. 14 | AA-8838
T. 3 S., R. 1 E., Secs. 21, 22 | AA-9462
T. 5 S., R. 1 E., Secs. 26, 27 | AA-8829
T. 6 S., R. 1 E., Sec. 8 | AA-8827
T. 6 S., R. 1 E., Sec. 19 | AA-8825
T. 6 S., R. 1 W., Sec. 24 | AA-8825
T. 7 S., R. 1 E., Sec. 5 | AA-37895
T. 7 S., R. 1 E., Sec. 8 | AA-8822
T. 7 S., R. 1 E., Secs. 17, 18 | AA-075690
T. 7 S., R. 1 W., Sec. 24 | AA-9602
T. 7 S., R. 1 W., Sec. 26 | AA-8820
T. 7 S., R. 1 W., Sec. 34 | AA-8817
T. 8 S., R. 1 W., Sec. 6 | AA-9589
T. 8 S., R. 3 W., Sec. 13 | AA-77244

ADDRESSES: See Supplementary Information section for addresses where the application can be inspected.

FOR FURTHER INFORMATION CONTACT: Rob McWhorter, TAPS Renewal Coordinator, at (907) 271-3664.

SUPPLEMENTARY INFORMATION: The locations where the application can be inspected are:

U.S. Bureau of Land Management, State/Federal Joint Pipeline Office, 411 West 4th Avenue, Suite 2, Anchorage, Alaska 99501

U.S. Bureau of Land Management, Public Information Center, Alaska State Office 222 West Seventh Avenue, #13, Anchorage, Alaska 99513-7599

U.S. Bureau of Land Management, Northern Field Office Public Room 1150 University Avenue, Fairbanks, Alaska 99709

U.S. Bureau of Land Management, Glennallen Field Office, P.O. Box 147, Glennallen, Alaska 99588

ARLIS 3150 C Street, Anchorage, Alaska 99503

Anchorage Loussac Public Library, 3600 Denali Street, Anchorage, Alaska 99503

Fairbanks Northstar Borough Public Library, 1215 Cowles Street, Fairbanks, Alaska 99701-4313

Valdez Consortium Library, P.O. Box 609, Valdez, Alaska 99686

Tuzzy Consortium Library, P.O. Box 749, Barrow, Alaska 99723

Delta Community Library, 2288 Deborah Street, Delta Junction, Alaska 99737

Copper Valley Community Library, Mile 186, Glenn Highway, Glennallen, Alaska 99588

Electronic Copies

Electronic copies of the application are available for interested persons to review at the Bureau of Land Management/Joint Pipeline Office web site: tapsrenewal@jpo.doi.gov.

Dated: May 11, 2001.
Jerry Brossia,
Authorized Officer, Joint Pipeline Office.

[FR Doc. 01-12698 Filed 5-18-01; 8:45 am]

BILLING CODE 4310-JA-P